FEDERAL COMMUNICATIONS COMMISSION

47 CFR Part 73

[DA 03-2828; MB Docket No. 03-195; RM-10745]

Radio Broadcasting Services; Dripping Springs and Marble Falls, TX

AGENCY: Federal Communications Commission.

ACTION: Proposed rule.

SUMMARY: This document requests comments on a petition for rulemaking filed by Amigo Radio, Ltd. requesting the substitution of Channel 285A for Channel 285C2 at Marble Falls, TX, reallotment of Channel 285A from Marble Falls, TX to Dripping Springs, TX, and modification of the license for Station KXXS to specify operation at Dripping Springs.¹ Channel 285A can be allotted to Dripping Springs at coordinates 30-11-54 and 98-00-46. Mexican concurrence will be requested for the allotment of Channel 285A at Dripping Springs. In accordance with the provisions of Section 1.420(i) of the Commission's Rules, we shall not accept competing expressions of interest for the use of Channel 285A at Dripping Springs.

¹ On August 4, 2003, a CFR correction was published in the Federal Register correcting the FM Table of Allotments under Texas listing the community of Marble Falls and Channel 285C2. See 68 FR 45786, August 4, 2003.

DATES: Comments must be filed on or before October 30, 2003, and reply comments on or before November 14, 2003.

ADDRESSES: Federal Communications Commission, 445 Twelfth Street, SW., Washington, DC 20554. In addition to filing comments with the FCC, interested parties should serve the petitioner's counsel, as follows: Robert B. Jacobi, Richard A. Helmick, Cohn and Marks LLP, 1920 N Street, NW., Suite 300, Washington, DC 20036.

FOR FURTHER INFORMATION CONTACT: Kathleen Scheuerle, Media Bureau, (202) 418-2180.

SUPPLEMENTARY INFORMATION: This is a synopsis of the Commission's Notice of Proposed Rule Making, MB Docket No. 03-195, adopted September 3, 2003, and released September 8, 2003. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Dripping Springs, Channel 285A and removing Marble Falls, Channel 285C2.

Federal Communications Commission.
John A. Karousos,
Assistant Chief, Audio Division, Media Bureau.

[FR Doc. 03-23926 Filed 9-18-03; 8:45 am]

BILLING CODE 6712-01-P